DEPARTMENT OF TRANSPORTATION

Federal Aviation Administration

14 CFR Part 39

[Docket No. FAA-2010-0282; Directorate Identifier 2009-NM-140-AD; Amendment 39-16262; AD 2010-08-07]

RIN 2120-AA64

Airworthiness Directives; Airbus Model 340-500 and -600 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Following successive ECAM [electronic centralized aircraft monitoring] warnings during the approach phase, just after the landing gear extension sequence and an uneventful landing, the maintenance inspection on an Airbus A340 has revealed a hydraulic leak that was caused by the failure of the Yellow high pressure (HP) hydraulic pipe supplying the back-up Nose Wheel Steering (NWS) which runs along the lower part of the avionic bay from frame 17 to frame 20.

This leak resulted in the loss of the Yellow hydraulic system and contamination of the avionics bay with sprayed hydraulic fluid.

This condition, if not detected and corrected, could result in an ingestion of hydraulic fluid in the electrical connectors, which could generate an arcing phenomenon and, if sufficient energy is provided by the arcing, lead to an ignition source, which would be an unsafe condition.

* * * * *

This AD requires actions that are intended to address the unsafe condition described in the MCAI.

DATES: This AD becomes effective April 29, 2010.

The Director of the Federal Register approved the incorporation by reference of a certain publication listed in the AD as of April 29, 2010.

We must receive comments on this AD by June 1, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued EASA Airworthiness Directive 2009-0130, dated June 23, 2009 (referred to after this as “the MCAI”), to correct an unsafe condition for the specified products. The MCAI states:

Following successive ECAM [electronic centralized aircraft monitoring] warnings during the approach phase, just after the landing gear extension sequence and an uneventful landing, the maintenance inspection on an Airbus A340 has revealed a hydraulic leak that was caused by the failure of the Yellow high pressure (HP) hydraulic pipe supplying the back-up Nose Wheel Steering (NWS) which runs along the lower part of the avionic bay from frame 17 to frame 20.

This leak resulted in the loss of the Yellow hydraulic system and contamination of the avionics bay with sprayed hydraulic fluid.

This condition, if not detected and corrected, could result in an ingestion of hydraulic fluid in the electrical connectors, which could generate an arcing phenomenon and, if sufficient energy is provided by the arcing, lead to an ignition source, which would be an unsafe condition.

This AD requires the repetitive [detailed] inspection [for damage (e.g., chafing)] of the Yellow HP hydraulic line from frame 17 to the elbow connection near frame 20, the application of the associated corrective actions, as necessary, and the repetitive performance of a bleeding of the NWS system to verify the correct installation and condition of the HP hydraulic line.

Required actions also include a detailed inspection for missing or damaged P-clamps including their grommets. Corrective actions include replacing damaged or missing P-clamp grommets and replacing P-clamps. If any P-clamp grommet is found missing or damaged, inspecting the hydraulic pipe under damaged P-clamps for chafing is required. You may obtain further information by examining the MCAI in the AD docket.

Relevant Service Information

Airbus has issued All Operators Telex A340-29A5014, dated October 14, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2010-0282; Directorate Identifier 2009-NM-140-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-08-07 Airbus: Amendment 39-16262. Docket No. FAA-2010-0282; Directorate Identifier 2009-NM-140-AD.

Effective Date

(a) This airworthiness directive (AD) becomes effective April 29, 2010.

Affected ADs

(b) None.

Applicability

(c) This AD applies to all Airbus Model A340-541 and -642 airplanes, certificated in any category, all manufacturer serial numbers.

Subject

(d) Air Transport Association (ATA) of America Code 29: Hydraulic power.

Reason

(e) The mandatory continued airworthiness information (MCAI) states:

Following successive ECAM [electronic centralized aircraft monitoring] warnings during the approach phase, just after the landing gear extension sequence and an uneventful landing, the maintenance inspection on an Airbus A340 has revealed an hydraulic leak that was caused by the failure of the Yellow high pressure (HP) hydraulic pipe supplying the back-up Nose Wheel Steering (NWS) which runs along the lower part of the avionic bay from frame 17 to frame 20.

This leak resulted in the loss of the Yellow hydraulic system and contamination of the avionics bay with sprayed hydraulic fluid.

This condition, if not detected and corrected, could result in an ingestion of hydraulic fluid in the electrical connectors, which could generate an arcing phenomenon and, if sufficient energy is provided by the arcing, lead to an ignition source, which would be an unsafe condition.

This AD requires the repetitive [detailed] inspection [for damage (e.g., chafing)] of the Yellow HP hydraulic line from frame 17 to the elbow connection near frame 20, the application of the associated corrective actions, as necessary, and the repetitive performance of a bleeding of the NWS system to verify the correct installation and condition of the HP hydraulic line.

Required actions also include a detailed inspection for missing or damaged P-clamps including their grommets. Corrective actions include replacing damaged or missing P-clamp grommets and replacing P-clamps. If any P-clamp grommet is found missing or damaged, inspecting the hydraulic pipe under damaged P-clamps for chafing is required.

Actions and Compliance

(f) Unless already done, do the following actions.

(1) At the applicable time specified in paragraph (f)(1)(i) or (f)(1)(ii) of this AD: Perform a detailed inspection for missing or damaged P-clamps, including their grommets, in accordance with the instructions of Airbus All Operators Telex A340-29A5014, dated October 14, 2008.

(i) If the airplane has accumulated 1,000 total flight cycles or more as of the effective date of this AD: Within 100 flight cycles after the effective date of this AD.

(ii) If the airplane has accumulated fewer than 1,000 total flight cycles as of the effective date of this AD: Within 250 flight cycles after the effective date of this AD.

(2) If any P-clamp grommet is found missing or damaged during the inspection required by paragraph (f)(1) of this AD: Perform a detailed inspection of the hydraulic pipe under the damaged P-clamp for signs of damage (including bulging and chafing) in accordance with the instructions of Airbus All Operators Telex A340-29A5014, dated October 14, 2008. If the damage exceeds the applicable tolerance specified in paragraph (f)(2)(i) and (f)(2)(ii) of this AD, repair before further flight in accordance with Airbus All Operators Telex A340-29A5014, dated October 14, 2008.

Note 1: Guidance on repairing damage to the hydraulic pipe under the damaged P-clamp as specified in paragraph (f)(2) of this AD is in AMM Task 20-23-11 of the Airbus A340-600 Aircraft Maintenance Manual.

(i) For sharp-bottomed damage: 0.033 mm (0.001 inch) maximum depth.

(ii) For round-bottomed damage: 0.066 mm (0.003 inch) maximum depth.

(3) If any P-clamp or grommet is found missing or damaged during the inspection required by paragraph (f)(1) of this AD, before further flight, replace the P-clamp, in accordance with the instructions of Airbus All Operators Telex A340-29A5014, dated October 14, 2008.

(4) At the applicable time specified in paragraph (f)(4)(i) or (f)(4)(ii) of this AD: Perform a detailed inspection to detect damage (including bulging and chafing) of the yellow high pressure hydraulic line from frame 17 to the elbow connection near frame 20, in accordance with the instructions of Airbus All Operators Telex A340-29A5014, dated October 14, 2008. If any damage is detected, before further flight, repair the pipeline in accordance with the instructions of Airbus All Operators Telex A340-29A5014, dated October 14, 2008.

Note 2: Guidance on repairing damage to the hydraulic pipe under the damaged P-clamp as specified in paragraph (f)(2) of this AD is in Task 20-23-11 of the Airbus A340-600 Aircraft Maintenance Manual.

(i) If the airplane has accumulated 1,000 total flight cycles or more as of the effective date of this AD: Within 100 flight cycles after the effective date of this AD.

(ii) If the airplane has accumulated fewer than 1,000 total flight cycles as of the effective date of this AD: Within 250 flight cycles after the effective date of this AD.

(5) At the same time as accomplishing the actions required by paragraphs (f)(1) and (f)(4) of this AD: Perform a bleeding of the nose wheel steering system, in accordance with the instructions of Airbus All Operators Telex A340-29A5014, dated October 14, 2008.

(6) Repeat the inspection required by paragraphs (f)(1) and (f)(4) of this AD and the bleeding of the nose wheel steering system required by paragraph (f)(5) of this AD at intervals not to exceed 500 flight cycles.

(7) At the applicable time in paragraph (f)(7)(i) or (f)(7)(ii) of this AD, submit a report of the findings (both positive and negative) of the inspections required by paragraphs (f)(1) and (f)(4) of this AD to Airbus Customer Services, Engineering and Technical Support, ATTN: Mr. C. DUPHIL, SEEL4, 1 Rond Point Maurice Bellonte, 31707 Blagnac Cedex, France; telephone: +33/(0)5 61 93 40 05; fax: +33/(0)5 61 67 19 12 05; e-mail: christophe.duphil@airbus.com.

(i) If the inspection was done on or after the effective date of this AD: Submit the report within 30 days after the inspection.

(ii) If the inspection was done before the effective date of this AD: Submit the report within 30 days after the effective date of this AD.

FAA AD Differences

Note 3: This AD differs from the MCAI and/or service information as follows: Although the MCAI does not tell you to submit information to Airbus, paragraph (f)(7) of this AD specifies that such submittal is required.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) Airworthiness Directive 2009-0130, dated June 23, 2009; and Airbus All Operators Telex A340-29A5014, dated October 14, 2008; for related information.

Material Incorporated by Reference

(i) You must use Airbus All Operators Telex A340-29A5014, dated October 14, 2008, to do the actions required by this AD, unless the AD specifies otherwise. (The issue date of Airbus All Operators Telex A340-29A5014 is indicated only on the first page of the document.)

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail: airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 1, 2010.
Ali Bahrami,
Manager, Transport Airplane Directorate, Aircraft Certification Service.

[FR Doc. 2010-8180 Filed 4-13-10; 8:45 am]

BILLING CODE 4910-13-P